DEPARTMENT OF COMMERCE

National Oceanic and Atmospheric Administration

50 CFR Part 622

[Docket No. 250623-0109]

RIN 0648-BN06

Fishery Management Plans of Puerto Rico, St. Croix, and St. Thomas and St. John; Amendment 3

AGENCY: National Marine Fisheries Service (NMFS), National Oceanic and Atmospheric Administration (NOAA), Commerce.

ACTION: Final rule.

SUMMARY: NMFS issues regulations to implement management measures described in Amendment 3 to the Fishery Management Plans (FMPs) for Puerto Rico, St. Croix, and St. Thomas and St. John (Amendment 3), as prepared by the Caribbean Fishery Management Council (Council). This final rule establishes new management measures for dolphinfish (Coryphaena hippurus) and wahoo (Acanthocybium solandri) in U.S. Caribbean Federal waters, including commercial and recreational minimum size limits and recreational bag and possession limits. The purpose of the management measures contained in this final rule and Amendment 3 is to ensure dolphinfish and wahoo have adequate time to mature and reproduce and to help protect against overfishing.

DATES: This final rule is effective July 25, 2025.

ADDRESSES: Electronic copies of Amendment 3, which includes a fishery impact statement, an environmental assessment, a regulatory impact review, and a Regulatory Flexibility Act (RFA) analysis, may be obtained from the Southeast Regional Office website at https://www.fisheries.noaa.gov/action/amendment-3-puerto-rico-st-croix-and-st-thomas-and-st-john-fishery-management-plans.

FOR FURTHER INFORMATION CONTACT: Sarah Stephenson, 727-824-5305, sarah.stephenson@noaa.gov.

SUPPLEMENTARY INFORMATION: NMFS, with the advice of the Council, manages the Puerto Rico, St. Croix, and St. Thomas and St. John fisheries in U.S. Caribbean Federal waters under the Puerto Rico, St. Croix, and St. Thomas and St. John FMPs. NMFS implements the FMPs through regulations at 50 CFR part 622 under the authority of the Magnuson-Stevens Fishery Conservation and Management Act (Magnuson-Stevens Act).

On September 6, 2024, NMFS published a notice of availability for Amendment 3 and requested public comment (89 FR 72794). On September 27, 2024, NMFS published a proposed rule for Amendment 3 and requested public comment (89 FR 79220). NMFS approved Amendment 3 on November 27, 2024. The proposed rule and Amendment 3 outline the rationale for the actions contained in this final rule. The management measures described in Amendment 3 and implemented by this final rule are described below.

Executive Order 14172, “Restoring Names that Honor American Greatness” (January 20, 2025), directs that the Gulf of Mexico be renamed the Gulf of America. Consistent with the order, NMFS uses Gulf of America to refer to the geographical area previously known as the Gulf of Mexico, except when a statute or existing regulations explicitly refer to the “Gulf of Mexico.” Relevant to this rulemaking, existing regulations contained in 50 CFR part 622, including the heading for that part, refer to the Gulf of Mexico, as well as the South Atlantic and Caribbean. Amending the heading of 50 CFR part 622 is beyond the scope of this rulemaking.

Background

The Magnuson-Stevens Act requires NMFS to prevent overfishing and achieve, on a continuing basis, the optimum yield from federally managed fish stocks to ensure that fishery resources are managed for the greatest overall benefit to the Nation, particularly with respect to providing food production and recreational opportunities, and protecting marine ecosystems.

This action is taken under the statutory authority of the Magnuson-Stevens Act section 303(a)(1) as necessary and appropriate for the conservation and management of the fishery to prevent overfishing and to promote the long-term health and stability of the fishery.

On September 22, 2020, the Secretary of Commerce approved the Puerto Rico, St. Croix, and St. Thomas and St. John FMPs under section 304(a)(3) of the Magnuson-Stevens Act. The FMPs took effect on October 13, 2022, after NMFS published the final rule to implement the FMPs (87 FR 56204, September 13, 2022). Each FMP contains management measures applicable for Federal waters off the respective island management area. Federal regulations at 50 CFR part 622 subparts S, T, and U describe management measures for Puerto Rico, St. Croix, and St. Thomas and St. John, respectively. Federal waters around Puerto Rico extend seaward from 9 nautical miles (nmi) or 16.7 kilometers (km) from shore to the offshore boundary of the U.S. Caribbean exclusive economic zone (EEZ). Federal waters around St. Croix and St. Thomas and St. John extend seaward from 3 nmi (5.6 km) from shore to the offshore boundary of the U.S. Caribbean EEZ.

Prior to implementation of the Puerto Rico, St. Croix, and St. Thomas and St. John FMPs, dolphinfish and wahoo were not federally managed in Federal waters in the U.S Caribbean. Because of the economic importance to the region of these fast-growing, short-lived pelagic species, they were included for management under each of the Puerto Rico, St. Croix, and St. Thomas and St. John FMPs, even though they are exposed to harvest pressure across a wide area of the Atlantic Ocean, the Gulf of America, and the Caribbean Sea due to their migratory nature. While each FMP established annual catch limits (ACLs), annual catch targets (ACTs), and accountability measures (AMs) for dolphinfish and wahoo, the FMPs did not establish other management measures often used to limit harvest or effort, such as minimum size limits, recreational bag and possession limits, or commercial trip limits.

Two species of dolphinfish occur and are federally managed in the U.S. Caribbean. The dolphinfish species affected by Amendment 3 and this final rule is Coryphaena hippurus, also known as dolphinfish, dolphin, dorado, or mahi mahi.

At its December 2021 meeting, the Council began discussing management measures that could address the increasing risk of overharvest of juvenile dolphinfish as a result of the increasing influx and presence of Sargassum in the region. Sargassum is a type of floating brown algae that provides food, protection, and habitat for many marine species. The Sargassum mats are natural fish aggregating devices for dolphinfish and wahoo, including juveniles of each species, making them easier to locate and catch. In addition, the lack of information available on the recreational harvest of dolphinfish and wahoo and the potential for excess harvest of these species to occur during recreational fishing trips is a source of uncertainty for the management of these species.

The Puerto Rico, St. Croix, and St. Thomas and St. John FMPs and the final rule implementing those FMPs did not include minimum size limits for dolphinfish or wahoo because these species were new to Federal management in the U.S. Caribbean. This final rule establishes minimum size limits for dolphinfish and wahoo for all fishing in U.S. Caribbean Federal waters (commercial and recreational sectors) to address the potential for small-sized (i.e., juvenile) individuals of these species to be caught year-round. Dolphinfish and wahoo are usually seasonally-caught species, but the annual influx of Sargassum to the region increases the likelihood that smaller fish could easily be harvested. Although there currently is not a large market for smaller-sized dolphinfish or wahoo, such a fishery could develop in the future and the Council recommended being proactive in the management of these species. Protecting smaller-sized dolphinfish and wahoo increases the potential that they have enough time to reproduce before being harvested.

Before this rulemaking, there were no recreational bag or possession limits for dolphinfish or wahoo for the same reasons noted above. This final rule establishes recreational bag and possession limits for dolphinfish and wahoo to help regulate recreational harvest in U.S. Caribbean Federal waters. While the Puerto Rico FMP established recreational ACLs and ACTs for dolphinfish and wahoo, the Marine Recreational Information Program (MRIP) that collected recreational data for Puerto Rico was suspended in 2017 and has not resumed to date. Recreational data were not collected for St. Croix or St. Thomas and St. John. As a result, neither the St. Croix FMP nor the St. Thomas and St. John FMP established sector-specific ACLs and ACTs for dolphinfish and wahoo. Though some catch information is available from recreational fishing tournaments that occur in Puerto Rico and the U.S. Virgin Islands (USVI), that information likely underrepresents the total number of dolphinfish or wahoo caught each year by the recreational sector. Thus, the number of recreational fishermen and the amount of dolphinfish or wahoo removed by the sector are largely unknown for the region. Setting recreational bag and possession limits for the recreational sector in Federal waters around Puerto Rico, St. Croix, and St. Thomas and St. John could reduce the risk of overfishing the resource, while allowing fishermen access to the species.

Because the commercial landings of dolphinfish and wahoo in each island management area have been less than the corresponding ACLs, additional harvest constraints for the commercial sector are not needed at this time.

Management Measures Contained in This Final Rule

For dolphinfish and wahoo, this final rule establishes commercial and recreational minimum size limits and recreational bag and possession limits in Federal waters around Puerto Rico, St. Croix, and St. Thomas and St. John.

Minimum Size Limits

Before this rulemaking, no minimum size limits were in place for dolphinfish or wahoo in Federal waters around Puerto Rico, St. Croix, and St. Thomas and St. John. For commercial and recreational fishing in the Federal waters around Puerto Rico, St. Croix, and St. Thomas and St. John, this final rule establishes a 24 inches (61.0 centimeter (cm)) fork length (FL), minimum size limit for dolphinfish and a 32 inches (81.3 cm) FL, minimum size limit for wahoo. As described in Amendment 3, these minimum size limits are based on size at maturity information reported for each species in the U.S. Caribbean.

Recreational Bag and Possession Limits

Before this rulemaking, no recreational bag or possession limits were in place for dolphinfish or wahoo in Federal waters around Puerto Rico, St. Croix, and St. Thomas and St. John. For Federal waters around Puerto Rico, this final rule establishes a recreational bag and possession limit of 5 dolphinfish per person per day, not to exceed 15 dolphinfish per vessel per day, whichever is less and a recreational bag and possession limit of 5 wahoo per person per day, not to exceed 10 wahoo per vessel per day, whichever is less. The Federal recreational bag and possession limits for dolphinfish established by this rule are more conservative than the recreational bag and possession limits that apply in Puerto Rico territorial waters, but consistent with the recreational bag and possession limits that apply in St. Croix and St. Thomas and St. John territorial waters. With respect to wahoo, the Federal recreational bag and possession limits established by this rule are consistent with the recreational bag and possession limits that apply in Puerto Rico territorial waters, but more conservative than the recreational bag and possession limits that apply in St. Croix and St. Thomas and St. John territorial waters.

For Federal waters around St. Croix and St. Thomas and St. John, this final rule establishes recreational bag and possession limits of 10 dolphinfish per person per day, not to exceed 32 dolphinfish per vessel per day, whichever is less and recreational bag and possession limits of 2 wahoo per person per day, not to exceed 10 wahoo per vessel per day, whichever is less. As described in Amendment 3, these recreational bag and possession limits for Federal waters are either consistent with, or more conservative than, current territorial bag limit regulations for dolphinfish and wahoo.

Comments and Reponses

NMFS received 15 unique comments during the public comment periods on the notice of availability and proposed rule for Amendment 3, which were submitted by individuals in the general public, fishing organizations, and a non-governmental organization. The majority of the comments were in support of some or all of the actions within Amendment 3 and the proposed rule to reduce the risk of overfishing dolphinfish and wahoo resources. For example, one commenter points to technological advances driving increased catch rates, while another noted that a research program in Puerto Rico is documenting declining catch. NMFS appreciates the information provided and agrees with those comments.

Four comments were opposed to one or more of the proposed actions specific to Amendment 3 and the proposed rule. Additional comments were submitted, which although relevant to the management of dolphinfish and wahoo, were outside the scope of Amendment 3 and the proposed rule. These comments are grouped as appropriate and summarized below, followed by NMFS' respective responses. NMFS has not made any changes from the proposed rule to this final rule based on public comment.

Comment 1: The size limit for dolphinfish (i.e., dorado) should be 30 inches (76.2 cm) FL, instead of the proposed 24 inches (61.0 cm) FL, size limit that would be implemented in Federal waters of the U.S. Caribbean.

Response: Before this rulemaking, there were no size limits established for dolphinfish in Federal waters around Puerto Rico, St. Croix, or St. Thomas and St. John. Amendment 3 and this final rule establish a size limit based on the size at maturity information reported for the species in the U.S. Caribbean. At 24 inches (61.0 cm) FL, almost all dolphinfish females caught off Puerto Rico and the USVI would be mature and would have had the opportunity to reproduce. NMFS and the Council determined that the 24 inches (61.0 cm) FL size limit will reduce fishing pressure on the smaller individuals, but, based on the analysis included in Amendment 3, will not greatly reduce the amount of commercial catch or recreational harvest for dolphinfish. A size limit greater than the 24 inches (61.0 cm) FL limit in this final rule would be more likely to impact commercial and recreational fishing. Because this species is new to Federal management in the U.S. Caribbean, NMFS determined, based in part on the Council's recommendation, that the 24 inches (61.0 cm) FL, size limit appropriately balances the biological benefits to the species with the social and economic impacts to fishermen.

Comment 2: A recreational bag limit of 10 dolphinfish per person per day or 32 dolphinfish per vessel per day in the USVI is too high. A harvest limit for dolphinfish similar to that proposed for Puerto Rico (5 fish per person per day or 15 per vessel, whichever is less) would be more reasonable.

Response: Before this rulemaking, no recreational bag and possession limits existed for dolphinfish in Federal waters around the USVI. The recreational bag limit of 10 dolphinfish per person per day or 32 dolphinfish per vessel per day, which will apply in Federal waters off St. Croix and off St. Thomas and St. John, is compatible with current regulations in the territorial waters of the USVI. Consistent and compatible regulations among Federal and USVI waters will make it easier for fishermen to comply with the new Federal regulations and for law enforcement to monitor compliance with and enforce the regulations. Additionally, MRIP did not collect recreational data in the USVI, and the number of dolphinfish harvested by recreational fishermen in Federal waters around the USVI is unknown. Recreational catch and effort data (e.g., the number of recreational anglers and methods used when fishing) previously collected by MRIP for Puerto Rico were not used as a proxy for the USVI because of the differences among the islands. The recreational bag limits for dolphinfish were developed through the Council process, including input from each District Advisory Panel and the public. NMFS believes these bag limits best represent catch and effort levels that could occur under current fishing practices. Thus, the more restrictive bag limit being implemented for Puerto Rico Federal waters was not as suitable for USVI Federal waters at this time.

Comment 3: The recreational bag limit of 2 wahoo per person per day for the USVI is too low. A recreational bag limit of 4-5 per person not to exceed 10 per day per vessel for wahoo is preferable.

Response: Before this rulemaking, no recreational bag and possession limits existed for wahoo in Federal waters around the USVI. In USVI territorial waters, the recreational bag limit for wahoo is 4 per person per day not to exceed 20 per vessel per day. For management of wahoo in Federal waters around St. Croix and St. Thomas and St. John, NMFS determined, based in part on the Council's recommendation, that a more conservative Federal recreational bag and possession limit is appropriate because the Federal minimum size limit selected for wahoo (i.e., 32 inches [81.3 cm] FL) is less conservative than the non-selected alternative (i.e., 40 inches [101.6 cm] FL). NMFS is aware that the more conservative Federal recreational bag and possession limits could result in adverse social and economic effects due to the increase in associated discards, especially if recreational fishermen catch and release smaller fish while trying to harvest larger fish to retain subject to the bag limit. However, NMFS determined that the selected alternative balances the biological benefits to these species with the social and economic impacts to fishermen, especially in the absence of recreational fishing data.

Comment 4: The recreational bag limits for dolphinfish and wahoo in Puerto Rico are too high and should be reduced to two per person per day for dolphinfish and one per person per day for wahoo. Given that most recreational anglers in Puerto Rico catch only one dolphinfish and wahoo per trip (as acknowledged in Appendix B3 in Amendment 3), this recommendation is still a reasonable and fair catch limit.

Response: Before this rulemaking, no recreational bag or possession limits existed for dolphinfish or wahoo in Federal waters around Puerto Rico. In Puerto Rico territorial waters, the recreational bag limit for dolphinfish is 10 per person per day and 30 per vessel per day and for wahoo is 5 per person per day and 10 per vessel per day. The new Federal bag and possession limits of 5 dolphinfish per person per day not to exceed 15 per vessel per day and 5 wahoo per person per day not to exceed 10 per vessel per day, were developed through the Council process, including input from the Puerto Rico District Advisory Panel and the public, and are expected to best represent catch and effort levels that could occur under current fishing practices. NMFS determined, based in part on the Council's recommendation, that the selected alternative balances the biological benefits to these species with the social and economic impacts to fishermen, especially in the absence of recreational fishing data. Additionally, the recreational bag limit for wahoo implemented by this rule will be compatible with territorial regulations for the species, which will make it easier for fishermen to comply with the regulations and for law enforcement to monitor compliance with and enforce the Federal regulations.

Comment 5: The proposed recreational bag limits are too high and would therefore continue to promote the illegal sale of recreationally caught fish.

Response: The definition of recreational fishing at 50 CFR 622.2 includes fishing or fishing activities which result in the harvest of fish, none of which (or parts thereof) is sold, traded, or bartered. Thus, the sale of recreationally caught fish is illegal, regardless of the Federal recreational bag limit. The recreational bag limits implemented by the rule will help regulate the harvest of dolphinfish and wahoo in Federal waters by the recreational sector, for which catch and effort information are either limited or not available. Implementation of the recreational bag and possession limits contained in Amendment 3 are intended to protect the resource rather than address the illegal sale of recreationally-caught fish. NMFS determined that the selected alternatives balance the biological benefits to these species with the social and economic impacts to fishermen, especially in the absence of recreational fishing data.

Comment 6: Amendment 3 fails to include any limitations for commercial harvest of dolphinfish and wahoo and, therefore, lacks parity in its approach to management of these species to reduce the risk of overfishing.

Response: Under the Puerto Rico, St. Croix, and St. Thomas and St. John FMPs, commercial harvest of dolphinfish and wahoo stocks is constrained to their respective ACLs and ACTs and corresponding AMs are in place for both species. As described in Amendment 3, the Council considered actions to establish commercial trip limits for dolphinfish and wahoo. Commercial landings for dolphinfish and wahoo were below the corresponding ACLs and ACTs at the time Amendment 3 was developed. As a result, additional harvest constraints for the commercial sector are not needed within Amendment 3. The combination of the respective ACLs and ACTs for the commercial harvest of these species along with the new recreational bag and possession limits and minimum size limits for dolphinfish and wahoo that are applicable for all fishing in Federal waters should reduce the risk of overfishing dolphinfish and wahoo resources, while allowing fishermen access to the species.

Comment 7: These size and bag limits should be applied in other Federal waters, such as Virginia, North Carolina, Maryland and other east coast states, to keep overfishing of dolphinfish and wahoo from happening.

Response: NMFS acknowledges that dolphinfish and wahoo occur over a wide geographical range that includes Atlantic waters off the U.S. east coast. While these species have a large geographical range, their Federal management remains to be carried out separately under the three U.S. Caribbean FMPs and the South Atlantic Dolphin and Wahoo FMP, based on the best scientific information available for each management area. Currently minimum size limits apply to dolphinfish in South Atlantic Federal waters off the coasts of Florida, Georgia, and South Carolina only. Bag and possession limits apply to dolphinfish and wahoo in South Atlantic Federal waters off the coasts of all the South Atlantic states where these species are managed. The managements actions that apply in South Atlantic Federal waters were implemented by NMFS, based on recommendations from the South Atlantic Fishery Management Council, and informed by public comment.

Comment 8: In addition to the management measures in Amendment 3, further work should be done to fully understand the role of dolphinfish and wahoo in the larger ecosystem of the U.S. Caribbean territories.

Response: The Council's Ecosystem-Based Fishery Management Technical Advisory Panel is developing a Fishery Ecosystem Plan (FEP) that would promote ecosystem-based approaches to ensure healthy, resilient and productive marine ecosystems and the fisheries resources dependent upon those ecosystems and evaluate how best to integrate those ecosystem-based approaches into existing fisheries management in the U.S. Caribbean (see e.g., 89 FR 58721, July 19, 2024). The draft FEP is expected to be available for public review by the December 2025 Council meeting.

Comment 9: In-person meetings should be held on the four coasts of Puerto Rico to get input from fishermen during the development of an amendment. In-person meetings are more informative for commercial and recreational fishermen because no matter how much technology is available for communication, not all of the public depends on it.

Response: During the development of Amendment 3, the public had multiple opportunities to participate and provide comments in-person in Puerto Rico. Amendment 3 was discussed during hybrid (virtual and in-person) Council meetings held in San Juan (December 2021; April, August, and December 2022; August 2023; and April 2024) and Ponce (April 2023), Puerto Rico. At each of those meetings, there was time set aside for the public to comment on the actions under consideration.

Comment 10: While Amendment 3 aims to mitigate overharvesting, it lacks sufficient clarity on financial support mechanisms for communities relying economically on dolphinfish and wahoo fisheries. Given this dependency, it is recommended to create a program that incentivizes sustainable fishing practices and provides short-term economic support to offset the financial impact of restrictions on fishers.

Response: The purpose of Amendment 3 is to establish size limits and recreational bag limits for dolphinfish and wahoo under the Puerto Rico FMP, the St. Croix FMP and the St. Thomas and St. John FMP to ensure undersized individuals have adequate time to mature and reproduce and to protect against overfishing of dolphinfish and wahoo. The limited impacts to small entities from these management measures are discussed in the final regulatory flexibility analysis contained in the Classification section of this final rule. Establishing financial support mechanisms for communities relying on dolphinfish and wahoo is outside the scope of Amendment 3 and the proposed rule.

Classification

Pursuant to section 304(b)(3) of the Magnuson-Stevens Act, the NMFS Assistant Administrator has determined that this final rule is consistent with Amendment 3, the FMPs for Puerto Rico, St. Croix, and St. Thomas and St. John, other provisions of the Magnuson-Stevens Act, and other applicable laws.

This final rule has been determined to be not significant for purposes of Executive Order 12866. This final rule is not an Executive Order 14192 regulatory action because this action is not significant under Executive Order 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

A final regulatory flexibility analysis (FRFA) was prepared. The FRFA incorporates the initial regulatory flexibility Analysis (IRFA), a summary of the significant issues raised by the public comments in response to the IRFA, NMFS responses to those comments, and a summary of the analyses completed to support the action. A copy of this analysis is available from NMFS (see ADDRESSES). A summary of the FRFA follows.

The Magnuson-Stevens Act provides the statutory basis for this final rule. A description of this final rule, why it is being implemented, and the purpose of this final rule are contained in the SUMMARY and SUPPLEMENTARY INFORMATION sections of this final rule. No public comments were received in response to the IRFA. Additionally, no comments were received from the Office of Advocacy for the Small Business Administration.

This final rule will apply to anglers (recreational fishers), charter vessels and headboats (for-hire vessels), and commercial fishing businesses that harvest dolphinfish and wahoo in Federal waters around Puerto Rico and the USVI. Anglers, however, are not considered small entities as that term is defined in 5 U.S.C. 601(6), whether fishing from for-hire, privately owned, or leased vessels. Therefore, neither estimates of the number of anglers nor the impacts on them are required or provided in this analysis.

Although the provisions of this final rule will apply to for-hire vessels, they are not expected to have any direct effects on these entities. For-hire vessels sell fishing services to anglers. The dolphinfish and wahoo recreational minimum size limits and recreational bag and possession limits are not expected to directly alter the services sold by these vessels. Any change in demand for these fishing services, and associated economic effects, as a result of this final rule would be a consequence of a change in anglers' behavior, secondary to any direct effect on anglers and, therefore, an indirect effect of this final rule. Indirect effects fall outside the scope of the RFA.

For RFA purposes only, NMFS has established a small business size standard for businesses, including their affiliates, whose primary industry is commercial fishing (see 50 CFR 200.2). A business primarily involved in commercial fishing (North American Industry Classification System 11411) is classified as a small business if it is independently owned and operated, is not dominant in its field of operation (including its affiliates), and its combined annual receipts are not in excess of $11 million for all of its affiliated operations worldwide. All of the following figures are expressed in 2021 dollars and all weights described in this final rule are in round weight.

From 2017 through 2021, an annual average of 706 Puerto Rico commercial fishermen were actively fishing, and each of these fishermen is expected to represent a unique commercial fishing business. On average, they collectively landed approximately 1.87 million lb (848,217.7 kg) of marine resources with a direct value (revenue) of about $9.16 million from all waters. The highest annual landings and direct value from their combined landings during the 5-year period were in 2019: 2.47 million lb (1,120,373.2 kg) with a direct value of almost $12.03 million. The average commercial fisherman during this 5-year period had annual revenue from all landings of $12,975. None of these fishermen had annual revenue from fishing that was close to exceeding the small business size standard. Based on the above, NMFS concludes that all commercial fishing businesses in Puerto Rico are small.

Because price data are not available after 2019 in the USVI, estimates of the numbers of small commercial fishing businesses directly affected by this final rule and its impacts on them are generated using 2015 through 2019 data. From 2015 through 2019, an annual average of 127 commercial fishermen (59 in St. Croix and 68 in St. Thomas and St. John) were actively fishing and collectively they generated average annual direct revenues of $4.71 million ($1.93 million in St. Croix and $2.78 million in St. Thomas and St John). Each of these commercial fishermen is expected to represent a unique business. Therefore, NMFS concludes that all commercial fishing businesses in St. Croix and in St. Thomas and St. John are small.

Not all of the above active small commercial fishing businesses harvest dolphinfish or wahoo from Federal waters. On average, 94 (13.3 percent) of Puerto Rico's 706 small businesses land dolphinfish or wahoo annually from Federal and unknown waters. For this final rule, “unknown waters” represent an area around each island or island group for which the jurisdiction, Federal or territorial, was not reported on the commercial catch report form. Note that these figures include small businesses that land dolphinfish or wahoo from unknown waters, and, as such, may result in overestimates of both the numbers of small businesses directly affected and the impacts on them. Likewise, 15 (25.4 percent) of St. Croix's 59 small businesses land dolphinfish or wahoo annually from Federal and unknown waters: 14 land dolphinfish and 10 land wahoo. Twelve (17.7 percent) of St. Thomas and St. John's 68 small businesses land dolphinfish or wahoo annually from Federal and unknown waters: all land dolphinfish and 8 land wahoo.

This final rule will establish a 24 inches (61.0 cm) FL, minimum size limit for all fishing for dolphinfish in Federal waters off Puerto Rico, St. Croix, and St. Thomas and St. John. It will also establish a 32 inches (81.3 cm) FL, minimum size limit for all fishing for wahoo in Federal waters off Puerto Rico, St. Croix, and St. Thomas and St. John. These minimum size limits are based on size at maturity information reported for each species in the U.S. Caribbean. Before this rulemaking, there were no minimum size limits for either dolphinfish or wahoo in Federal waters.

Puerto Rico

An annual average of 45,016 lb (20,418.9 kg) of dolphinfish and 8,525 lb (3,866.9 kg) of wahoo are harvested from Federal and unknown waters around Puerto Rico by 94 small businesses annually. Forty-two (44.7 percent) of these small businesses land both dolphinfish and wahoo and they collectively account for 70.7 percent of dolphinfish landings and 89.5 percent of wahoo landings by weight. Forty-six small businesses (48.9 percent) account for the remainder (29.3 percent) of dolphinfish landings and six small businesses (6.4 percent) account for the remainder (10.5 percent) of wahoo landings. NMFS estimates that this final rule will reduce commercial landings (by weight) of dolphinfish by less than 1 percent and wahoo by 11.9 percent annually.

On average, each of the 42 small businesses that land both dolphinfish and wahoo from Federal and unknown waters are expected to have annual reductions of dolphinfish landings of less than 8 lb (3.6 kg) and annual reductions of wahoo landings of 22 lb (10.0 kg). At 2021 prices, the 42 small businesses that land both dolphinfish and wahoo are expected to experience annual revenue decreases of less than $130 (less than $33 from dolphinfish and $97 from wahoo). This loss represents less than 0.6 percent of the average annual revenue from all landings for these 42 small businesses.

The 48 small businesses that land dolphinfish and not wahoo from Federal and unknown waters are each expected to have an annual reduction in dolphinfish landings less than 3 lb (1.4 kg) worth $13. This loss of dolphinfish revenue represents less than 0.1 percent of the average annual revenue of these 46 small businesses.

The 6 small businesses that land wahoo and not dolphinfish from Federal and unknown waters are each expected to have an annual reduction in wahoo landings of 18 lb (8.2 kg) worth $78. This loss of wahoo revenue represents 0.6 percent of the average annual revenue of these six small businesses.

Two alternatives to the 24 inches (61.0 cm) FL, minimum size limit for dolphinfish were considered but not selected. The first, the no-action alternative, would have no adverse impact on small businesses but would not support proactive species management. The second would have a smaller minimum size limit (20 inches; 50.8 cm FL), and, similar to the size limit implemented by this final rule, it would reduce annual commercial landings of dolphinfish by less than 1 percent. This smaller size limit corresponds with only 50 percent of females being capable of reproduction as opposed to the 24 inches FL, which corresponds with approximately all females being mature. As such, the 24 inches FL is preferable to reduce fishing pressures and allow more females to reach maturity.

Two alternatives to the 32 inches (81.3 cm) FL, minimum size limit for wahoo were considered but not selected. The first, the no-action alternative, would have no adverse impact on small businesses, but would not support proactive species management. The second, would establish a larger minimum size limit (40 inches; 101.6 cm, FL) and would reduce landings of wahoo by 37.7 percent instead of the 11.9 percent reduction that is expected from the size limit implemented by this final rule. As such, this alternative would have a greater adverse impact on small businesses than the 32 inches FL minimum size limit.

St. Croix

An annual average of 15 small businesses harvest dolphinfish or wahoo from Federal and unknown waters around St. Croix. To avoid potential disclosure of confidential information, a comparison of the small businesses that land both dolphinfish and wahoo and impacts on them to businesses that land one of the species is not provided. An annual average of 14 small businesses in St. Croix land dolphinfish from Federal and unknown waters. The top 7 account for 95.4 percent of dolphinfish landings, while the bottom 7 account for the remaining 4.6 percent. On average, these 14 small businesses collectively land 34,038 lb (15,439.4 kg) of dolphinfish annually. For the top 7 small businesses, average dolphinfish landings are approximately 4,640 lb (2,104.7 kg) and average annual revenue from all landings is $98,803. For the bottom 7 small businesses, average dolphinfish landings are approximately 225 lb (102.1 kg) and average annual revenue from all landings is $8,711.

NMFS estimates that this final rule will reduce annual commercial landings of dolphinfish in St. Croix by 5 percent. On average, each of the top 7 of the small businesses that land dolphinfish from Federal and unknown waters is expected to have an annual reduction in dolphinfish landings of 234 lb (106.1 kg) worth $1,491, which represents 1.5 percent of their average annual revenue from all landings. Each of the bottom 7 that land dolphinfish from Federal and unknown waters is expected to have an average annual reduction in landings of about 9 lb (4.1 kg) worth $57, which represents 0.7 percent of their average annual revenue from all landings.

An annual average of 10 small businesses in St. Croix land wahoo from Federal and unknown waters. The top 5 account for 95.4 percent of wahoo landings, while the bottom 5 account for the remaining 4.6 percent. On average, these 10 small businesses collectively land 17,966 lb (8,149.2 kg) of wahoo annually. For the top 5 small businesses, average wahoo landings are approximately 3,692 lb (1,674.7 kg) and average annual revenue from all landings is $129,686. For the bottom 5 small businesses, average wahoo landings are approximately 140 lb (63.5 kg) and average annual revenue from all landings is $19,373.

NMFS estimates that this final rule will reduce annual commercial landings of wahoo in St. Croix by 2.2 percent. On average, each of the top 5 of the 10 small businesses that land wahoo from Federal and unknown waters is expected to have an annual reduction in wahoo landings of 76 lb (34.5 kg) worth $502, which represents 0.4 percent of their average annual revenue from all landings. Each of the bottom 5 that land wahoo from Federal and unknown waters is expected to have an average annual reduction in landings of 4 lb (1.8 kg) worth $26, which represents 0.1 percent of their average annual revenue from all landings.

Two alternatives to the 24 inches (61.0 cm) FL, minimum size limit for dolphinfish were considered but not selected. The first, the no-action alternative, would have no adverse impact on small businesses but would not support proactive species management. The second would have a smaller minimum size limit (20 inches; 50.8 cm, FL), and it would reduce dolphinfish landings by 3.9 percent instead of 5.0 percent, as expected from the size limit implemented by this final rule. However, this smaller minimum size limit would not be as effective for reducing fishing pressures on the species.

Two alternatives to the 32 inches (81.3 cm) FL, minimum size limit for wahoo were considered but not selected. The first, the no-action alternative, would have no adverse impact on small businesses but would not support proactive species management. The second would establish a larger minimum size limit (40 inches; 101.6 cm, FL) and would reduce annual wahoo landings by 44.6 percent as opposed to the 2.2 percent reduction that is expected from the size limit implemented by this final rule. As such, this alternative would have a greater adverse impact on small businesses than the 32 inches FL minimum size limit.

St. Thomas and St. John

An annual average of 12 small businesses in St. Thomas and St. John land dolphinfish from Federal and unknown waters. The top 6 account for 97.2 percent of dolphinfish landings, while the bottom 6 account for the remaining 2.8 percent. On average, these 12 small businesses collectively land 8,889 lb (4,032.0 kg) of dolphinfish annually. For the top 6 small businesses, average dolphinfish landings are approximately 1,440 lb (653.2 kg) and average annual revenue from all landings is $27,311. For the bottom 6 small businesses, average dolphinfish landings are approximately 41 lb (18.6 kg) and average annual revenue from all landings is $25,031.

NMFS estimates that this final rule will reduce annual commercial landings of dolphinfish in St. Thomas and St. John by 1 percent. On average, each of the top 6 of the 12 small businesses that land dolphinfish from Federal and unknown waters is expected to have an annual reduction in dolphinfish landings of about 15 lb (6.8 kg) worth $119, which represents 2.0 percent of their average annual revenue from all landings. Each of the bottom 6 that land dolphinfish from Federal and unknown waters is expected to have an average annual reduction in landings of less than 1 lb (0.5 kg) worth $3, which represents less than 0.1 percent of their average annual revenue from all landings.

An annual average of 8 small businesses in St. Thomas and St. John land wahoo from Federal and unknown waters. The top 4 account for 89.6 percent of wahoo landings, while the bottom 4 account for the remaining 10.4 percent. On average, these 8 small businesses collectively land 3,058 lb (1,387.1 kg) of wahoo annually. For the top 4 small businesses, average wahoo landings are approximately 685 lb (310.7 kg) and average annual revenue from all landings is $31,792. For the bottom 4 small businesses, average wahoo landings are approximately 80 lb (36.3 kg) and average annual revenue from all landings is $15,659.

It is estimated that the recommended minimum size limit for wahoo implemented by this final rule will reduce commercial landings of wahoo in St. Thomas and St. John by 12 percent, which would be a reduction of 367 lb (166.5 kg) annually. On average, each of the top 4 small businesses is expected to have an annual decrease in wahoo landings of 82 lb (37.2 kg) worth $622, which represents about 2 percent of their annual revenue from all landings. Each of the bottom 4 small businesses is expected to have an annual decrease of wahoo landings of 10 lb (4.4 kg) worth $76, which represents about 0.5 percent of annual revenue from all landings.

Two alternatives to the 24 inches (61.0 cm) FL, minimum size limit for dolphinfish were considered but not selected. The first, the no-action alternative, would have no adverse impact on small businesses, but would not support proactive species management. The second would have a smaller minimum size limit (20 inches; 50.8 cm, FL), and it would reduce dolphinfish landings by less than 1 percent, which is the same annual reduction in landings as expected from the size limit implemented by this final rule. This smaller minimum size limit corresponds to the size at which only approximately 50 percent of females are mature. As such, the larger minimum size limit is preferable to reduce fishing pressures by allowing more females to reach maturity.

Two alternatives to the 32 inches (81.3 cm) FL, minimum size limit for wahoo were considered but not selected. The first, the no-action alternative, would have no adverse impact on small businesses. The second, would establish a larger minimum size limit (40 inches; 101.6 cm, FL), which would reduce wahoo landings by a larger percentage than the size limit implemented by this final rule. As such, this alternative would have a greater adverse impact on small businesses than the 32 inches FL minimum size limit.

Section 212 of the Small Business Regulatory Enforcement Fairness Act of 1996 states that, for each rule or group of related rules for which an agency is required to prepare a FRFA, the agency will publish one or more guides to assist small entities in complying with the rule and will designate such publications as “small entity compliance guides.” The agency will explain the actions a small entity is required to take to comply with a rule or group of rules. As part of this rulemaking process, a fishery bulletin to permit holders that also serves as a small entity compliance guide was prepared. This final rule and the guide (i.e., bulletin) will be available on the website (see ADDRESSES). Hard copies of the guide and this final rule will be available upon request (see ADDRESSES).

No duplicative, overlapping, or conflicting Federal rules have been identified. In addition, no new reporting, recordkeeping, or other compliance requirements are introduced in this final rule. This final rule contains no information collection requirements under the Paperwork Reduction Act of 1995.

List of Subjects in 50 CFR Part 622

Caribbean, Dolphinfish, Fisheries, Fishing, Wahoo.

Authority: 16 U.S.C. 1801 et seq.

Dated: June 23, 2025.
Samuel D. Rauch, III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.441, add paragraph (b) to read as follows:

§ 622.441 Size limits.

* * * * *

(b) Pelagic fish. (1) Dolphinfish—24 inches (61.0 cm), FL.

(2) Wahoo—32 inches (81.3 cm), FL.

* * * * *

3. In § 622.444, add paragraph (b) to read as follows:

§ 622.444 Bag and possession limits.

* * * * *

(b) Pelagic fish. (1) Dolphinfish—5 per person per day, not to exceed 15 per vessel per day, whichever is less.

(2) Wahoo—5 per person per day, not to exceed 10 per vessel per day, whichever is less.

* * * * *

4. In § 622.481, add paragraph (b) to read as follows:

§ 622.481 Size limits.

* * * * *

(b) Pelagic fish. (1) Dolphinfish—24 inches (61.0 cm), FL.

(2) Wahoo—32 inches (81.3 cm), FL.

* * * * *

5. In § 622.484, add paragraph (b) to read as follows:

§ 622.484 Bag and possession limits.

* * * * *

(b) Pelagic fish. (1) Dolphinfish—10 per person per day, not to exceed 32 per vessel per day, whichever is less.

(2) Wahoo—2 per person per day, not to exceed 10 per vessel per day, whichever is less.

* * * * *

6. In § 622.516, add paragraph (b) to read as follows:

§ 622.516 Size limits.

* * * * *

(b) Pelagic fish. (1) Dolphinfish—24 inches (61.0 cm), FL.

(2) Wahoo—32 inches (81.3 cm), FL.

* * * * *

7. In § 622.519, add paragraph (b) to read as follows:

§ 622.519 Bag and possession limits.

* * * * *

(b) Pelagic fish. (1) Dolphinfish—10 per person per day, not to exceed 32 per vessel per day, whichever is less.

(2) Wahoo—2 per person per day, not to exceed 10 per vessel per day, whichever is less.

* * * * *

[FR Doc. 2025-11714 Filed 6-24-25; 8:45 am]

BILLING CODE 3510-22-P